DEPARTMENT OF THE INTERIOR

National Park Service

[NPS-WASO-NAGPRA-NPS0034715; PPWOCRADN0-PCU00RP14.R50000]

Notice of Inventory Completion: Michigan State Historic Preservation Office, Lansing, MI

AGENCY: National Park Service, Interior.

ACTION: Notice.

SUMMARY: The Michigan State Historic Preservation Office (Michigan SHPO) has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Michigan SHPO. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Michigan SHPO at the address in this notice by November 16, 2022.

FOR FURTHER INFORMATION CONTACT: Michael Hambacher, Staff Archaeologist, State Historic Preservation Office, Michigan Economic Development Corporation, 300 N Washington Square, Lansing, MI 48913, telephone (517) 243-9513, email hambacherm@michigan.gov.

SUPPLEMENTARY INFORMATION: Notice is here given in accordance with the Native American Graves Protection and Repatriation Act (NAGPRA), 25 U.S.C. 3003, of the completion of an inventory of human remains and associated funerary objects under the control of the Michigan State Historic Preservation Office, Lansing, MI. The human remains and associated funerary objects were removed from Genesee, Oakland, and Washtenaw Counties, MI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by Michigan SHPO professional staff in consultation with representatives of the Bay Mills Indian Community, Michigan; Chippewa Cree Indians of the Rocky Boy's Reservation, Montana (previously listed as Chippewa-Cree Indians of the Rocky Boy's Reservation, Montana); Grand Traverse Band of Ottawa and Chippewa Indians, Michigan; Hannahville Indian Community, Michigan; Keweenaw Bay Indian Community, Michigan; Lac Vieux Desert Band of Lake Superior Chippewa Indians of Michigan; Little River Band of Ottawa Indians, Michigan; Little Shell Tribe of Chippewa Indians of Montana; Little Traverse Bay Bands of Odawa Indians, Michigan; Match-e-be-nash-she-wish Band of Pottawatomi Indians of Michigan; Minnesota Chippewa Tribe, Minnesota (Mille Lacs Band); Nottawaseppi Huron Band of the Potawatomi, Michigan (previously listed as Huron Potawatomi, Inc.); Pokagon Band of Potawatomi Indians, Michigan and Indiana; Saginaw Chippewa Indian Tribe of Michigan; Sault Ste. Marie Tribe of Chippewa Indians, Michigan and the Wyandotte Nation. The Bad River Band of the Lake Superior Tribe of Chippewa Indians of the Bad River Reservation, Wisconsin; Citizen Potawatomi Nation, Oklahoma; Forest County Potawatomi Community, Wisconsin; Lac Courte Oreilles Band of Lake Superior Chippewa Indians of Wisconsin; Lac du Flambeau Band of Lake Superior Chippewa Indians of the Lac du Flambeau Reservation of Wisconsin; Minnesota Chippewa Tribe, Minnesota (Bois Forte Band (Nett Lake); Fond du Lac Band; Grand Portage Band; Leech Lake Band; White Earth Band); Ottawa Tribe of Oklahoma; Prairie Band Potawatomi Nation (previously listed as Prairie Band of Potawatomi Nation, Kansas); Red Cliff Band of Lake Superior Chippewa Indians of Wisconsin; Red Lake Band of Chippewa Indians, Minnesota; Sokaogon Chippewa Community, Wisconsin; St. Croix Chippewa Indians of Wisconsin; and the Turtle Mountain Band of Chippewa Indians of North Dakota were invited to consult but did not participate. Hereafter, all Indian Tribes listed in this section are referred to as “The Consulted and Invited Tribes.”

History and Description of the Human Remains

In the summer of 1960, human remains and associated funerary objects representing, at minimum, one individual were removed from the Warner School site (20GS6) in Genesee County, MI. A researcher from the University of Michigan Museum of Anthropological Archaeology (UMMAA) excavated the multi-component site which is located in Flint Township on a high terrace overlooking the Flint River. One burial was identified with the individual interred as a partly articulated in a bundle burial. The human remains date to the Late Woodland Period (A.D. 500-1400) based on two ceramic sherds collected near the burial pit.

The human remains include one adult, 45+ years old, female with osteoarthritis in her vertebrae and a healed fracture of the right clavicle. No known individual was identified. The two associated funerary objects are one lot of ceramic sherds; and one lot of chert flakes, fire cracked rock, pebbles, and cobbles.

On May 22, 1935, human remains representing, at minimum, one individual were removed from the Leeson site (20OK01) in Oakland County, MI. A construction crew working on a Civilian Conservation Corps project encountered human remains while removing earth from the crown of a hill on the shore of Cass Lake. Faculty from the UMMAA were contacted to conduct a salvage excavation at the site. The burial was determined to be an isolated secondary bundle burial. The human remains were in extremely fragile condition and red sand had been packed inside the cranium. (Two additional fragmentary bundle burials with red ochre were noted at the site, but they were not transferred to the UMMAA.) The human remains broadly date to pre-contact (9150 B.C. to A.D.1640) based on mortuary treatment.

The human remains are one adult, 40-55 years old, indeterminate sex. No known individual was identified. No associated funerary objects are present.

On May 11, 1933, human remains and associated funerary objects representing, at minimum, four individuals were removed from the GL-539 (or M-17) site (20WA5) in Washtenaw County, MI. Workers unearthed the burials while digging a sewer trench near Michigan State Highway M-17. They contacted faculty from the UMMAA to excavate the site. UMMAA records indicate the burials were located in a defined pit. Human remains from an infant buried at the site were located under a flat boulder within the burial pit. The human remains date to the Late Woodland Period (A.D. 500-1400) based on diagnostic artifacts associated with the site.

The human remains include one infant 0-6 months old; one adolescent, 14-17 years old; one adult, possibly female; and one adult, 35-50 years old, male. No known individuals were identified. The four associated funerary objects are one lot of raccoon maxillary bone fragments; one lot of charcoal; one lot of fossil shells; and one lot of ceramic sherds.

Determinations Made by the Michigan State Historic Preservation Office

Officials of the Michigan State Historic Preservation Office have determined that:

• Pursuant to 25 U.S.C. 3001(9), the human remains described in this notice are Native American based on cranial morphology, dental traits, accession documentation, and archeological context.

• Pursuant to 25 U.S.C. 3001(9), the human remains described in this notice represent the physical remains of six individuals of Native American ancestry.

• Pursuant to 25 U.S.C. 3001(3)(A), the six objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of the Citizen Potawatomi Nation, Oklahoma; Forest County Potawatomi Community, Wisconsin; Hannahville Indian Community, Michigan; Match-e-be-nash-she-wish Band of Pottawatomi Indians of Michigan; Nottawaseppi Huron Band of the Potawatomi, Michigan (previously listed as Huron Potawatomi, Inc.); Pokagon Band of Potawatomi Indians, Michigan and Indiana; Prairie Band Potawatomi Nation (previously listed as Prairie Band of Potawatomi Nation, Kansas); and the Saginaw Chippewa Indian Tribe of Michigan.

• Treaties, Acts of Congress, or Executive Orders, indicate that the land from which the Native American human remains and associated funerary objects were removed is the aboriginal land of The Consulted and Invited Tribes.

• Pursuant to 43 CFR 10.11(c)(1), the disposition of the human remains and associated funerary objects may be to The Consulted and Invited Tribes.

Additional Requestors and Disposition

Representatives of any Indian Tribe or Native Hawaiian organization not identified in this notice that wish to request transfer of control of these human remains and associated funerary objects should submit a written request with information in support of the request to Michael Hambacher, Staff Archaeologist, State Historic Preservation Office, Michigan Economic Development Corporation, 300 N Washington Square, Lansing, MI 48913, telephone (517) 243-9513, email hambacherm@michigan.gov, by November 16, 2022. After that date, if no additional requestors have come forward, transfer of control of the human remains and associated funerary objects to The Consulted and Invited Tribes may proceed.

The Michigan State Historic Preservation Office is responsible for notifying The Consulted and Invited Tribes that this notice has been published.

Dated: October 5, 2022.
Melanie O'Brien,
Manager, National NAGPRA Program.

[FR Doc. 2022-22517 Filed 10-14-22; 8:45 am]

BILLING CODE 4312-52-P